DEPARTMENT OF COMMERCE

National Oceanic and Atmospheric Administration

[I.D. 012202E]

Marine Mammals; File No. 1022-1659

AGENCY: National Marine Fisheries Service (NMFS), National Oceanic and Atmospheric Administration (NOAA), Commerce.

ACTION: Issuance of permit.

SUMMARY: Notice is hereby given that Doyle Hanan, Ph.D., P.O. Box 8914, Rancho Santa Fe, CA 92067 has been issued a permit to take California sea lions (Zalophus californianus) and harbor seals (Phoca vitulina) for purposes of scientific research.

ADDRESSES: The permit and related documents are available for review upon written request or by appointment in the following office(s):

Permits, Conservation and Education Division, Office of Protected Resources, NMFS, 1315 East-West Highway, Room 13705, Silver Spring, MD 20910; phone (301) 713-2289; fax (301) 713-0376;

Southwest Region, NMFS, 501 West Ocean Blvd., Suite 4200, Long Beach, CA 90802-4213; phone (562) 980-4001; fax (562) 980-4018.

FOR FURTHER INFORMATION CONTACT: Amy Sloan or Ruth Johnson, (301) 713-2289.

SUPPLEMENTARY INFORMATION: On November 30, 2001, notice was published in the Federal Register (66 FR 59781) that a request for a scientific research permit to take California sea lions and harbor seals had been submitted by the above-named individual. The requested permit has been issued under the authority of the Marine Mammal Protection Act of 1972, as amended (16 U.S.C. 1361 et seq.), and the Regulations Governing the Taking and Importing of Marine Mammals (50 CFR part 216).

Dated: February 4, 2002.
Ann D. Terbush,
Chief, Permits, Conservation and Education Division, Office of Protected Resources, National Marine Fisheries Service.

[FR Doc. 02-3004 Filed 2-6-02; 8:45 am]

BILLING CODE 3510-22-S